DEPARTMENT OF TRANSPORTATION

Surface Transportation Board

[Docket No. FD 35891]

TransDistribution Ridgeland Railroad Company—Acquisition and Operation Exemption—Sweetener Supply Company, Inc.

TransDistribution Ridgeland Railroad Company (TDRR), a noncarrier, has filed a verified notice of exemption ¹ under 49 CFR 1150.31 to acquire from Sweetener Supply Company, Inc. (SSC), a noncarrier, and to operate, pursuant to an operating agreement, approximately 1,230 feet (0.23 mile) of rail line referred to as the Berwyn Transload Facility trackage in Berwyn, Ill. There are no mileposts on the line. The BNSF Railway Company (BNSF) owns the Berwyn Transload Facility trackage and currently leases the facility and trackage to SSC for the transloading of bagged sugar products.

¹ The notice was originally filed on December 11, 2014, but was supplemented on December 18, 2014. Therefore, December 18, 2014, will be the official filing date and the basis for all subsequent dates.

TDRR certifies that the proposed transaction does not contain any provision or agreement that may limit future interchange of traffic with a third-party connecting carrier. TDRR states that the line is being used to interchange with BNSF.

TDRR also certifies that its projected annual revenues as a result of this transaction will not exceed those that would qualify it as a Class III rail carrier and will not exceed $5 million.

TDRR states that it proposes to consummate the transaction on or about January 1, 2015. However, the earliest this transaction can be consummated is January 17, 2015, the effective date of the exemption (30 days after the exemption was officially filed).

If the verified notice contains false or misleading information, the exemption is void ab initio. Petitions to revoke the exemption under 49 U.S.C. 10502(d) may be filed at any time. The filing of a petition to revoke will not automatically stay the effectiveness of the exemption. Petitions to stay must be filed no later than January 9, 2015 (at least seven days before the exemption becomes effective).

An original and 10 copies of all pleadings, referring to Docket No. FD 35891, must be filed with the Surface Transportation Board, 395 E Street SW., Washington, DC 20423-0001. In addition, a copy of each pleading must be served on David C. Dillon, Dillon & Nash, Ltd., 111 West Washington Street Suite 1023, Chicago, IL 60602.

Board decisions and notices are available on our Web site at www.stb.dot.gov.

Decided: December 23, 2014.

By the Board, Joseph H. Dettmar, Acting Director, Office of Proceedings.

Jeffrey Herzig,
Clearance Clerk.

[FR Doc. 2014-30637 Filed 12-31-14; 8:45 am]

BILLING CODE 4915-01-P